DEPARTMENT OF THE INTERIOR

Bureau of Indian Affairs

[212A2100DD/AAKC001030/A0A51010.999900]

Land Acquisitions; Confederated Salish and Kootenai Tribes of the Flathead Reservation

AGENCY: Bureau of Indian Affairs, Interior.

ACTION: Notice.

SUMMARY: This notice announces that the Assistant Secretary—Indian Affairs has acquired all land comprising the National Bison Range, consisting of approximately 18,800.22 acres, more or less, into trust for the Confederated Salish and Kootenai Tribes of the Flathead Reservation.

DATES: This trust transfer occurred on December 27, 2020.

FOR FURTHER INFORMATION CONTACT: Ms. Sharlene M. Round Face, Bureau of Indian Affairs, Division of Real Estate Services, 1001 Indian School Road NW, Albuquerque, NM 87104, sharlene.roundface@bia.gov, (505) 563-3132.

SUPPLEMENTARY INFORMATION: This notice is published in the exercise of authority delegated by the Secretary of the Interior to the Assistant Secretary—Indian Affairs by part 209 of the Departmental Manual, and is published in the Assistant Secretary's discretion to inform the public and provide clarity regarding title of the National Bison Range.

On the date listed in the DATES section of this notice, the President signed Public Law 116-260, which provides that all land comprising the National Bison Range are held in trust by the United States for the benefit of the Confederated Salish and Kootenai Tribes of the Flathead Reservation. The following land description is written in accordance with the Specifications for Descriptions of Land: Revised 2017:

Principal Meridian, Montana.

T. 18 N, R. 20 W,

sec. 5, lot 4, S½NW¼, SW¼, W½SE¼, and SE¼SE¼;

secs. 6, 7, 8, 17, 18, 19, and 20;

sec. 29, N½NE¼, NW¼, W½SW¼, and NE¼SW¼, EXCEPTING THEREFROM Tracts A and B of Certificate of Survey No. 4432, Filed on November 13, 1990, in Lake County, MT., containing 41.54 acres, more or less;

sec. 30.

T. 19 N, R. 20 W,

sec. 31;

sec. 32,

W½NW¼ and W½SW¼.

T. 18 N, R. 21 W,

secs. 1, 2, and 3;

sec. 4, lots 1 and 2,

Warranty Deed dated June 18, 1999, filed in Missoula County, Montana on Microfilm No. 27909, Tract No. 12, more particularly described as, that portion of government lots three (3) and six (6) lying East of Montana State Highway 212, EXCEPTING that portion of Lot Three (3) conveyed to the State of Montana for State Highway Project as shown in Book 102 of Deeds, Page 477, Sanders County Records, containing 37 acres, more or less, and

Warranty Deed dated June 5, 2002, filed in Sanders County, Montana on Microfilm No. 37748, portion of Tract No. 13, more particularly described as, the East Half of the Southwest Quarter (E½SW¼) EXCEPTING THEREFROM the Northeast Quarter of the Southwest Quarter (NE¼SW¼) of Section 4, a strip Sixty (60.00) feet wide as described in the instrument executed by Mart Sullivan to the Northern Pacific Railway Company, dated June 25, 1917, recorded July 17, 1917, in Book 23 of Deeds, Page 281; ALSO EXCEPTING THEREFROM a strip one Hundred (100.00) feet wide as described in the instrument executed by Patrick Noon to the Northern Pacific Railway Company, dated September 29, 1916, recorded October 23, 1916, in Book 23 of Deeds, Page 123, also excepting therefrom that parcel conveyed to the state of Montana by that Bargain and Sale Deed recorded April 15, 1988, in Book 109 of Deeds, page 314, containing 79.00 acres, more or less;

sec. 9, NE¼, NE¼NW¼, S½NW¼, NE¼SW¼, and SE¼;

secs. 10, 11, 12, 13, 14, and 15;

sec. 16, E½;

sec. 21, lot 1 and NE¼;

sec. 22, lots 1 and 4, N½, NE¼SW¼, and SE¼;

secs. 23 and 24;

sec. 25, lots 1 and 2, N½, N½SW¼, and SE¼;

sec. 26, lot 1, N½, and N½SE¼, together with a roadway-railway grade crossing, R.W. 7059, executed on March 13, 1967 across that portion of the railway company's main line right of way in the southwest quarter of the southeast quarter (SW¼SE¼) Section Twenty Six (26), Township Eighteen (18) North, Range Twenty One (21) West, Montana Principal Meridian, shown colored RED on the map, marked Exhibit “A”, dated September 27, 1966, attached and made a part of the conveyance document; sec. 27, N½NE¼.

T. 19 N, R. 21 W,

sec. 26, Warranty Deed dated May 21, 1997, filed in Lake County, Montana on Microfilm No. 382039, Tract No. 11, more particularly described as, those portions of the SE¼SW¼, SW¼SE¼, and SE¼SE¼ lying South of the Montana Rail Link, Inc., (formerly Burlington Northern) Railroad right-of-way, containing 26.49 acres, more or less;

sec. 27, Warranty Deed dated June 24, 1931, filed in Missoula County, Montana July 22, 1931, recorded in Volume 10 Deeds, page 192, Tract No. 3, more particularly described as, beginning at the Southeast Corner (1) of the Southwest Quarter Southwest Quarter (SW¼SW¼) Section 27, Township Nineteen North (T19N) Range Twenty-one West (R21W) of Montana, Principal Meridian, in Lake County Montana, thence West along South line of said Section Twenty-seven, 19.02 chains (2); thence North 36°12′ East, 1.45 chains (3); thence North 41°24′ East, 2.39 chains (4); thence North 44°25′ East, 3.21 chains (5); thence North 44°35′ East, 17.59 chains (6); thence North 52° East, 2.56 chains (7); thence South, 19.34 chains, to the point of beginning (1); containing in gross 18.86 acres more or less, excepting and reserving therefrom approximately three fourths of one acre of said land facing 202.2 feet on the Northwesterly boundary of said land and 159 feet in depth as shown on the plat annexed to this deed, said exception being also described as follows; Beginning at a point (1) distant 8.24 chains, North 76°19′ West from a post at the main gate to National Bison Range Headquarters in the exterior boundary line of the land above described between corners 1 and 7; thence North 45°25′ West 2.41 chains (2), a point in the said exterior boundary line between corners 5 and 6; thence South 44°35′ West with said exterior boundary line 3.06 chains (3), (from this point an iron post bears South 66°31′ West 1.80 chains distant); thence South 45°25′ East 2.41 chains (4); thence North 44°35′ East 3.06 chains to (1) the place of beginning. After allowing for said exception the net acreage of the land hereby conveyed is 18.ll acres. EXCEPTING that portion conveyed to James E. Largent as shown on Deed, United States of America to James E. Largent dated December 12, 1990, more particularly described as those portions of Township Nineteen (19) North. Range Twenty-one (21) West, Principal Meridian Montana: In Section Twenty-seven (27), a portion of the Southwest Quarter Southwest Quarter (SW¼SW¼) described as Parcel 1, and further described as: Commencing at the Southeast Corner of the Southwest Quarter Southwest Quarter (SW¼SW¼) of Section 27; thence West along the South line of said Section 1255.32 feet to a point; thence N 36°12′00″ E, 95.70 feet to a point; thence N 41°24′00″ E, 157.74 feet to a point; thence N 44°25′00″ E, 211.86 feet to a point; thence N 44°35′00″ E, 169.36 feet to the true Point of Beginning; thence N 44°35′00″ E, 304.56 feet to a point; thence S 46°00′16″ E, 153.12 feet to a point; thence S 18°29′04″ W, 127.30 feet to a point; thence S 39°48′35″ W, 182.99 feet to a point; thence N 47°49′48″ W, 224.54 feet to the Point of Beginning containing 1.40 acres, more or less, SE¼SW¼, and S½SE¼;

secs. 34, 35 and 36.

The areas described aggregate 18,800.22 acres, SUBJECT TO valid existing rights.

Bryan Newland,
Principal Assistant Secretary—Indian Affairs.

[FR Doc. 2021-13221 Filed 6-23-21; 8:45 am]

BILLING CODE 4337-15-P